DEPARTMENT OF HEALTH AND HUMAN SERVICES

Indian Health Service

National Indian Health Board

AGENCY: Indian Health Service, HHS.

ACTION: Notice of single source cooperative agreement with the National Indian Health Board.

SUMMARY: The Indian Health Service (IHS) announces a new award of a cooperative agreement to the National Indian Health Board (NIHB) for costs in providing advice and technical assistance to the IHS on behalf of federally recognized tribes in the area of health care policy analysis and program development. The NIHB will provide advice, consultation and health care advocacy to the IHS based on tribal input through a broad-based consumer network involving the Area Health Boards or Health Board representatives from each of the twelve IHS Areas. Under the cooperative agreement the NIHB will communicate with tribes and tribal organizations concerning health issues, disseminate health care information, improve and expand access for American Indians and Alaska Natives (AI/AN) tribal governments to all available programs in the Department of Health and Human Services (HHS), and coordinate the tribal consultation activities associated with formulation of the IHS annual budget request. The application is for a five year project which will commence with an initial award on March 15, 2004. The initial budget period will be awarded at $227,00.00 and the entire project is expected to be awarded at $1,135,000.00.

The award is issued under the authority of the Public Health Service Act, section 301(a) and is included under the Catalog of Federal Domestic Assistance number 93.933. The specific objectives of the project are to:

1. Provide ongoing technical advice and consultation as the national Indian organization that is representative of all tribal governments in the area of health care policy analysis and program development.

2. Assure that health care advocacy is based on tribal input through a broad-based consumer network involving the Area Indian Health Boards or Health Board Representatives from each of the 12 IHS Areas.

3. Establish relationships with other national Indian organizations, with professional groups and with Federal, State and local entities to serve as advocates for AI/AN health programs. As a recipient of a grant/cooperative agreement, the NIHB is prohibited from conducting lobbying activities using Federal funding.

4. Improve and expand access for AI/AN tribal governments to all available programs in the HHS.

5. Publish, at least three times a year, a newsletter featuring articles on health promotion/disease prevention activities and models of best or improving practices, health policy and funding information relevant to AI/AN, etc.

6. Disseminate timely health care information to tribal governments, AI/AN Health Boards, other national Indian organizations, professional groups, Federal, State, and local entities.

7. Coordinate the tribal consultation activities associated with formulation of the IHS annual budget request.

Justification for Single Source: This project has been awarded on a non-competitive single source basis. NIHB is the only national AI/AN organization with health expertise that represents the interest of all federally recognized tribes.

Use of Cooperative Agreement: A non-competitive single source Cooperative Agreement Award will involve:

1. IHS staff will review articles concerning the Agency for accuracy and may, as requested by the NIHB, provide articles.

2. IHS staff will have aproval over the hiring of key personnel as defined by regulation or provision in the cooperative agreement.

3. IHS will provide technical assistance to the NIHB as requested and attend and participate in all NIHB Board meetings.

FOR FURTHER INFORAMTION CONTACT: Douglas Black, Director, Office of Tribal Programs, Office of the Director, Indian Health Service, 801 Thompson Avenue, Reyes Building, Suite 220, Rockville, Maryland 20852, telephone (301) 443-1104. For grants information, contact Sylvia Tyan, Grants Management Specialist, Division of Acquisition and Grants Management Branch, 1200 Twinbrook Parkway, Room 450A, Rockville, Maryland 20852, telephone (301) 443-5204.

Dated: March 1, 2004.
Charles W. Grim,
Assistant Surgeon General, Director, Indian Health Service.

[FR Doc. 04-5305 Filed 3-9-04; 8:45 am]

BILLING CODE 4160-16-M